DEPARTMENT OF JUSTICE

Notice of Lodging of Proposed Stipulation of Settlement and Judgment Under the Clean Water Act

Notice is hereby given that on May 12, 2009, a proposed Stipulation of Settlement and Judgment, pertaining to United States v. Alaska Gold Co. and NovaGold Resources, Inc., 3:09-cv-00090-TMB, was lodged with the United States District Court for the District of Alaska.

In the action, the United States seeks civil penalties for alleged violations of Sections 301 of the Clean Water Act, 33 U.S.C. 1311, in connection with violations of permit conditions or limitations in a National Pollutant Discharge Elimination System (“NPDES”) permit, issued by the Environmental Protection Agency (“EPA”), during the construction and/or operation of the Rock Creek Mine in/or near Nome, Alaska. The proposed Stipulation of Settlement and Judgment requires that within thirty (30) days of entry of the Stipulation of Settlement and Judgment, Alaska Gold Co. and NovaGold Resources, Inc. shall pay $883,628 in civil penalties to the United States to resolve the violations alleged in the complaint.

The Department of Justice will receive, for a period of thirty (30) days from the date of this publication, comments relating to the Stipulation of Settlement and Judgment. Comments should be addressed to the Assistant Attorney General, Environment and Natural Resources Division, and either e-mailed to pubcomment-ees.enrd@usdoj.gov or mailed to P.O. Box 7611, U.S. Department of Justice, Washington, DC 20044-7611, and should refer to United States v. Alaska Gold Co. and NovaGold Resources, Inc, DOJ No. 90-5-1-1-09621. The proposed Stipulation of Settlement and Judgment may be examined at the Office of the United States Attorney for the District of Alaska, Federal Bldg., U.S. Courthouse, 222 W. 7th Ave. Room 9 (contact Assistant U.S. Attorney, Gary Guarino (907) 271-4264), and at EPA Region 10, 1200 Sixth Avenue, Seattle, Washington 98101 (contact Senior Enforcement Counsel Mark Ryan (208) 378-5768). During the public comment period, the Stipulation of Settlement and Judgment may also be examined on the following Department of Justice Web site: http://www.usdoj.gov/enrd/Consent_Decrees.html. A copy of the Stipulation of Settlement and Judgment may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $2.25 (25 cents per page reproduction cost), payable to the U.S. Treasury or, if by e-mail or fax, forward a check in that amount to the Consent Decree Library at the stated address.

Maureen Katz,
Assistant Section Chief, Environmental Enforcement Section, Environment and Natural Resources Division.

[FR Doc. E9-11457 Filed 5-15-09; 8:45 am]

BILLING CODE 4410-15-P